POSTAL SERVICE

39 CFR Part 20

International Mailing Services: Proposed Product and Price Changes—CPI

AGENCY: Postal Service™.

ACTION: Proposed rule with a request for comments.

SUMMARY: The Postal Service proposes to revise Mailing Standards of the United States Postal Service, International Mail Manual (IMM®), to reflect changes in the prices, product features, and classification changes to Mailing Services. These changes would also implement a restriction on the contents of First-Class Mail International® to documents only, to comply with standards established by the Universal Postal Union (UPU).

DATES: We must receive your comments on or before November 24, 2017.

ADDRESSES: Mail or deliver comments to the manager, Product Classification, U.S. Postal Service®, 475 L'Enfant Plaza SW., RM 4446, Washington, DC 20260-5015. You may inspect and photocopy all written comments at USPS® Headquarters Library, 475 L'Enfant Plaza SW., 11th Floor N, Washington, DC by appointment only between the hours of 9 a.m. and 4 p.m., Monday through Friday by calling 1-202-268-2906 in advance. Email comments, containing the name and address of the commenter, to: ProductClassification@usps.gov, with a subject line of “January 2018 International Mailing Services Price Change—CPI.” Faxed comments are not accepted.

FOR FURTHER INFORMATION CONTACT: Paula Rabkin at 202-268-2537.

SUPPLEMENTARY INFORMATION:

Compliance With UPU Standards

On May 31, 2017 (82 FR 24913), the Postal Service filed an advance notice of rulemaking with a request for comments, providing notification of our intention to limit the contents of First-Class Mail International to documents only, in accordance with recent Universal Postal Union (UPU) deliberations. We received one set of comments, requesting that the Postal Service clearly define the difference between documents and merchandise and also requesting that we continue to permit “goods of nominal value” in First-Class Mail International. As we move forward with this initiative, with the anticipated effective date of January 21, 2018, to fulfill our commitments under the Universal Postal Union (UPU) Acts, we are clearly defining the difference between documents and merchandise in our revisions to the International Mail Manual; however, we are unable to continue to permit “goods of nominal value” sent by known mailers in First-Class Mail International items because, to be consistent with the UPU requirements, we must eliminate goods of any kind from First-Class Mail International letters and flats. Commercial mailers may continue to mail “goods of nominal value” in First-Class Package International® Service packages (small packets), International Priority Airmail® (IPA®) service packages (small packets) and International Surface Airlift® (ISAL®) service packages (small packets).

International Price and Service Adjustments

On October 6, 2017, the Postal Service filed a notice of mailing services price adjustments with the Postal Regulatory Commission (PRC), effective on January 21, 2018. The Postal Service proposes to revise Notice 123, Price List, available on Postal Explorer® at http://pe.usps.com, to reflect these new price changes. Proposed prices are or will be available under Docket Number R2018-1 on the Postal Regulatory Commission's Web site at www.prc.gov.

This proposed rule describes the price and classification changes and the corresponding mailing standards changes for the following market dominant international services:

• First-Class Mail International service.

• International extra services and fees.

First-Class Mail International

We propose no increase in prices for single-piece First-Class Mail International letters, postcards, and flats. The price for a single-piece 1-ounce letter remains $1.15. The First-Class Mail International letter nonmachinable surcharge remains $0.21.

In this filing we are proposing a change, conforming to the requirements of the Universal Postal Convention, limiting the contents of First-Class Mail International postcard, letter, and large envelope (flat) mail to personal correspondence and non-dutiable documents. Merchandise that was formerly carried in First-Class Mail International service will instead be eligible to be contained in First-Class Package International Service pieces or another available service. Because International Priority Airmail (IPA) service, including IPA M-bags, and International Surface Airlift (ISAL) service, including ISAL M-bags, are commercial services designed for volume mailings of all First-Class Mail International postcards, letters, and large envelopes (flats) and First-Class Package International Service packages (small packets), the limiting of the contents of First-Class Mail International postcard, letter, and large envelope (flat) mail discussed above will also apply to International Priority Airmail (IPA) postcard, letter, and large envelope (flat) mail and International Surface Air Lift (ISAL) postcard, letter, and large envelope (flat) mail. (See notice concerning International Competitive Services Product and Prices Changes, Final Rule, concerning new prices posted under Docket CP2018-8 on the Postal Regulatory Commission's Web site, published contemporaneously with this filing.)

International Extra Services and Fees

The Postal Service proposes to increase prices for certain market dominant international extra services including:

• Certificate of Mailing

• Registered Mail™

• Return Receipt

• Customs Clearance and Delivery Fee

• International Business Reply™ Mail Service

Extra Services

Certificate of Mailing
| Fee
Individual pieces
Individual article (PS Form 3817) | $1.40
Duplicate copy of PS Form 3817 or PS Form 3665 (per page) | 1.40
Firm mailing sheet (PS Form 3665), per piece (minimum 3) First-Class Mail International only | 0.40
Bulk quantities
For first 1,000 pieces (or fraction thereof) | 8.25
Each additional 1,000 pieces (or fraction thereof) | 1.03
Duplicate copy of PS Form 3606 | 1.40

Registered Mail

Fee: $15.50.

Return Receipt

Fee: $4.00.

Customs Clearance and Delivery

Fee: per piece $6.25.

International Business Reply Service

Fee: Cards $1.40; Envelopes up to 2 ounces $1.90

List of Subjects in 39 CFR Part 20

Foreign relations, International postal services.

Following the completion of Docket No. R2018-1, the Postal Service will adjust the prices for products and services covered by the International Mail Manual. These prices will be on Postal Explorer at pe.usps.com.

Accordingly, although exempt from the notice and comment requirements of the Administrative Procedure Act (5 U.S.C. 553(b), (c)) regarding proposed rulemaking by 39 U.S.C. 410(a), the Postal Service invites public comment on the following proposed changes to Mailing Standards of the United States Postal Service, International Mail Manual (IMM®), which is incorporated by reference in the Code of Federal Regulations in accordance with 39 CFR 20.1, and to associated changes to Notice 123, Price List.

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

1 International Mail Services

* * * * *

120 Preparation for Mailing

* * * * *

123 Customs Forms and Online Shipping Labels

123.6 Required Usage

123.61 Conditions

* * * * *

Exhibit 123.61

Customs Declaration Form Usage by Mail Category

* * * * *

[Revise the heading and text for the First-Class Mail International section to read as follows:]

Type of item | Declared value, weight, or physical characteristic | Required PS form | Comment (if applicable)
* * * * * * *
First-Class Mail International Letters and Large Envelopes (Flats), as well as International Priority Airmail (IPA) Letters and Large Envelopes (Flats) and International Surface Air Lift (ISAL) Envelopes (Flats)
All letter-size and flat-size items, as defined in 241.2, containing only nondutiable documents | Under 16 ounces 16 ounces or more | None 2976 | See 123.63 for additional information concerning “documents.” Items containing merchandise must be mailed using Global Express Guaranteed service, Priority Mail Express International service, Priority Mail International service, or First-Class Package International Service; commercial mailers may also use IPA packages (small packets) and ISAL packages (small packets) to mail merchandise. Certain documents controlled by export regulatory agencies may also require customs documentation. See 510-590 and Publication 699 for additional information.
All items containing any goods, regardless of weight | Prohibited | Prohibited | See 123.63 for additional information concerning “documents” and merchandise. Items containing merchandise must be mailed using Global Express Guaranteed service, Priority Mail Express International service, Priority Mail International service, or First-Class Package International Service; commercial mailers may also use IPA packages (small packets) and ISAL packages (small packets) to mail merchandise.
| * * * * * * *

[Delete the footnote]

* * * * *

[Revise the heading of 123.63 to read as follows (indicating a separation of documents and merchandise):]

123.63 Separation of Documents and Merchandise

[Revise the text to read as follows (dividing the section into subsections, with 123.631 containing new text that explains the separation between documents and merchandise, 123.632 based on the first part of the previous 123.63, and 123.633 based on the second part of the previous 123.63):]

[Insert a new subheading 123.631 to read as follows:]

123.631 Explanation of Separation

Merchandise consists of items other than documents that are considered potentially dutiable, as well as documents that may be subject to customs duties. Mailers must declare a value and place a customs form on each merchandise item. If any item (merchandise or document) weighs more than 16 ounces, a mailer must place a customs form on it, regardless of the content.

[Insert a new subheading 123.632 to read as follows:]

123.632 Documents

In Exhibit 123.61, the “Type of Item” column has several references to “documents.” For this purpose, “documents” refers only to any piece of written, drawn, or printed information, excluding objects of merchandise. Documents do not include digital and electronic storage media or devices such as CDs, DVDs, or flash drives. Examples of documents include the following:

a. Audit and business records.

b. Personal correspondence.

c. Circulars.

d. Pamphlets.

e. Advertisements.

f. Written instruments not intended to be resold.

g. Money orders, checks, and similar items that cannot be negotiated or converted into cash without forgery.

[Insert a new subheading 123.633 to read as follows:]

123.633 Merchandise

The following are examples of items that are required to bear a customs declaration form and to declare a:

a. CDs, DVDs, flash drives, video and cassette tapes, and other digital and electronic storage media—regardless of whether they are blank or contain electronic documents or other prerecorded media.

b. Artwork.

c. Collector or antique document items.

d. Books.

e. Periodicals.

f. Printed music.

g. Printed educational or test material.

h. Player piano rolls.

i. Commercial engineering drawings.

j. Commercial blueprints.

k. Film.

l. Negatives.

m. X-rays.

n. Separation negatives.

o. Commercial photographs.

* * * * *

141.5 First-Class Mail International

[Revise the first two sentences to read as follows:]

First-Class Mail International is a generic term for mailpieces that are postcard size, letter-size or flat-size and weigh 4 pounds or less. First-Class Mail International items may contain any letter-size or flat-size mailable correspondence or non-dutiable documents that are not prohibited by the destination country.* * *

* * * * *

141.6 First-Class Package International Service

[Revise the second sentence to replace “registry” with “Registered Mail,” to read as follows:]

At the sender's option, extra services, such as Registered Mail and return receipt, may be added on a country-specific basis.

* * * * *

240 First-Class Mail International

* * * * *

242 Eligibility

242.1 Content Eligibility

[Revise text to read as follows (indicating that only correspondence and non-dutiable documents may be sent by FCMI):]

Subject to applicable weight and size limits, only correspondence and non-dutiable documents that are otherwise acceptable and not prohibited by the Postal Service or the country of destination may be mailed at the First-Class Mail International price.

[Revise the heading of 242.2 to read as follows:]

242.2 Merchandise

[Replace subsections 242.21 and 242.22 with text to read as follows (because no merchandise, neither dutiable as in the previous 242.21 nor non-dutiable as in the previous 242.22, may be mailed with First-Class Mail International service):]

No merchandise, whether dutiable or non-dutiable, may be mailed using First-Class Mail International Service. Items containing merchandise may be sent by Global Express Guaranteed service, Priority Mail Express International service, Priority Mail International service, or First-Class Package International Service; commercial mailers may also use IPA packages (small packets) and ISAL packages (small packets).

* * * * *

243 Prices and Postage Payment Methods

* * * * *

243.3 Permit Imprint —General

[Revise the fourth sentence to read as follows (specifying that the only First-Class Mail International items that require customs forms are letters and flats that weigh more than 16 ounces):]

Mailers may use a permit imprint for mailing identical- or nonidentical-weight First-Class Mail International items. Any of the First-Class Mail International permit imprint formats shown in Exhibit 152.64 is acceptable. Permit imprints must not denote “bulk mail,” “nonprofit,” or other domestic or special mail markings. For items requiring a customs form (First-Class Mail International letter-size and flat-size mailpieces weighing more than 16 ounces), mailers must also meet the following requirements:* * *

* * * * *

Individual Country Listings

* * * * *

[For every country that accepts Free Matter for the Blind service, revise the first paragraph of the “Free Matter for the Blind” text to read as follows (noting that First-Class Mail International service is limited to documents only):]

Free Matter for the Blind (270)

Free when sent as First-Class Mail International (documents only), First-Class Package International Service, Priority Mail International Flat Rate Envelopes, or Priority Mail International Small Flat Rate Priced Boxes. Weight limit: 4 pounds.

* * * * *

[For the following countries, revise the applicable text as noted:]

Afghanistan

* * * * *

Restrictions

[Revise the entry to read as follows:]

Traveler's checks, precious stones, jewelry, and other valuable articles are admitted only in registered First-Class Package International Service shipments.

* * * * *

Aruba

Prohibitions (130)

[Revise the first entry to read as follows:]

Coins; banknotes; currency; securities of any kind payable to bearer; traveler's checks; platinum, gold, and silver (manufactured or not); precious stones; jewelry; and other valuable articles, unless they are sent by First-Class Package International Service with Registered Mail Service.

* * * * *

Benin

* * * * *

Observations

[Revise the first entry to read as follows:]

1. First-Class Package International Service items containing dutiable articles must be registered.

* * * * *

Bonaire, Sint Eustatius, and Saba

Prohibitions (130)

[Revise the first entry to read as follows:]

Coins; banknotes; currency; securities of any kind payable to bearer; traveler's checks; platinum, gold, and silver (manufactured or not); precious stones; jewelry; and other valuable articles, unless they are sent in First-Class Package International Service with Registered Mail service.

* * * * *

Brazil

* * * * *

Restrictions

[Revise the second entry to read as follows:]

Postage stamps are admitted only in First-Class Package International Service with Registered Mail service shipments.

* * * * *

Burkina Faso

* * * * *

Observations

[Revise the entry to read as follows:]

1. First-Class Package International Service items containing dutiable articles must be registered.

* * * * *

Burma

(Myanmar)

* * * * *

Observations

[Revise the first entry to read as follows;]

1. The following may not be sent as merchandise with First-Class Package International Service if they are liable to customs duty: Works of art (including photographs), printed forms, account books, manuscript books, labels, advertising matter (except trade catalogs and circulars), picture books, almanacs, maps, old paper, and old newspapers serving as packing paper.

* * * * *

Cameroon

* * * * *

Restrictions

[Revise the entry to read as follows:]

Banknotes; currency notes; and securities payable to bearer may be sent only as First-Class Package International Service with Registered Mail service.

* * * * *

Canada

Restrictions

[Revise the first entry to read as follows:]

Coins; banknotes; currency notes; securities payable to bearer; traveler's checks; gold, silver, platinum, manufactured or not; jewelry; and other valuable articles may be sent only by First-Class Package International Service with Registered Mail service.

Exceptions:

Coins sent to or from collectors or dealers may be mailed in ordinary (uninsured) parcels.

* * * * *

Cote d'Ivoire (Ivory Coast)

* * * * *

Observations

[Revise the first entry to read as follows:]

1. First-Class Package International Service items containing dutiable articles must be registered.

* * * * *

Curacao

Prohibitions (130)

[Revise the first entry to read as follows:]

Coins; banknotes; currency; securities of any kind payable to bearer; traveler's checks; platinum, gold, and silver (manufactured or not); precious stones; jewelry; and other valuable articles, unless they are sent in registered First-Class Package International Service.

* * * * *

Faroe Islands

* * * * *

Restrictions

[Revise the first entry to read as follows:]

Coins; banknotes; currency notes (paper money); securities payable to bearer; traveler's checks; manufactured and unmanufactured platinum, gold, silver; precious stones; jewelry; and other valuable articles, may only be sent in registered First-Class Package International Service or insured parcels.

* * * * *

French Guiana

* * * * *

Restrictions

[Revise the first entry to read as follows:]

Coins; banknotes; currency notes (paper money); securities payable to bearer; traveler's checks; manufactured and unmanufactured platinum, gold, silver; precious stones; jewelry; and other valuable articles, may only be sent in registered First-Class Package International Service shipments.

* * * * *

French Polynesia (Includes Tahiti)

* * * * *

Restrictions

[Revise the entry to read as follows:]

Banknotes admitted only in registered First-Class Package International Service.

* * * * *

Gambia

* * * * *

Restrictions

[Revise the entry to read as follows:]

Banknotes; currency notes; securities payable to bearer; traveler's checks; manufactured and unmanufactured platinum, gold, silver; precious stones; jewelry; and other valuable articles may be sent only in registered First-Class Package International Service shipments.

* * * * *

Ghana

* * * * *

Restrictions

[Revise the entry to read as follows:]

Banknotes, treasury notes, currency notes, and coins may only be sent in registered First-Class Package International Service shipments from one bank to another.

* * * * *

Greece

Prohibitions

* * * * *

[Revise the third entry to read as follows:]

Coins; traveler's checks; platinum, gold or silver, manufactured or not; precious stones; jewelry; and other valuable articles, except banknotes, currency notes (paper money), and securities payable to bearer may be sent in registered First-Class Package International Service shipments.

* * * * *

Restrictions

[Revise the first entry to read as follows:]

Banknotes, currency notes; and securities payable to bearer may only be sent in registered First-Class Package International Service shipments.

* * * * *

Guadeloupe (Includes Saint Bartholomew and Saint Martin)

* * * * *

Restrictions

[Revise the first entry to read as follows:]

Coins; banknotes; currency notes; securities payable to bearer; traveler's checks; manufactured and unmanufactured platinum, gold, and silver; precious stones; jewels; expensive jewelry; and other valuable articles may only be sent in registered First-Class Package International Service shipments.

* * * * *

Israel

* * * * *

Restrictions

[Revise the first entry to read as follows:]

Coins; banknotes; currency notes (paper money); securities payable to bearer; traveler's checks; platinum, gold or silver, manufactured or not; precious stones; jewelry; and other valuable articles may only be sent in registered First-Class Package International Service shipments.

* * * * *

[Revise the fifth entry to read as follows:]

Records, films, recording wire, computer cards, QSL cards, and magnetic film are admitted only if sent in First-Class Package International Service shipments.

* * * * *

Italy

* * * * *

Restrictions

* * * * *

[Revise the second entry to read as follows:]

Postage stamps for philatelic purposes are admitted in registered First-Class Package International Service shipments on condition that the package bears a completed PS Form 2976 and the addressee complies with the Italian financial regulations.

* * * * *

Japan

* * * * *

Restrictions

* * * * *

[Revise the second entry to read as follows:]

Coins; banknotes; currency notes (paper money); securities payable to bearer; traveler's checks; platinum, gold or silver, manufactured or not; precious stones; jewelry; and other valuable articles may only be sent in registered First-Class Package International Service shipments or insured Priority Mail International parcels.

* * * * *

Korea, Republic of (South Korea)

* * * * *

Restrictions

[Revise the first entry to read as follows:]

Coins; paper currency; banknotes; currency notes; securities payable to bearer; jewelry; manufactured and unmanufactured platinum, gold, and silver; precious stones; and other valuable articles are admitted only if sent in registered First-Class Package International Service shipments.

* * * * *

Libya

* * * * *

Observations

* * * * *

[Revise the third entry to read as follows:]

3. In accordance with Executive Order 12543 of January 7, 1986, merchandise is limited to donations of articles of food, clothing, medicines, and medical supplies that are intended strictly for medical purposes. First-Class Package International Service items and International Priority Airmail (IPA) items are subject to the content restriction. ISAL service is suspended because transportation is not available.

* * * * *

Macao

* * * * *

Restrictions

[Revise the entry to read as follows:]

Coins; banknotes; currency notes; traveler's checks; securities payable to bearer; platinum, gold or silver, manufactured or not; precious stones; jewelry; and other valuable articles may only be sent in registered First-Class Package International Service shipments.

* * * * *

Mali

* * * * *

Observations

[Revise the first entry to read as follows:]

1. First-Class Package International Service items and Priority Mail International Flat Rate Envelopes containing dutiable articles must be registered.

* * * * *

Namibia

Prohibitions

* * * * *

[Revise the fourth entry to read as follows:]

Diamonds or precious stones except in registered First-Class Package International Service shipments.

* * * * *

Niger

* * * * *

Observations

[Revise the entry to read as follows:]

First-Class Package International Service items containing dutiable articles must be registered.

* * * * *

Oman

* * * * *

Observations

[Revise the entry to read as follows:]

First-Class Package International Service items containing dutiable articles must be registered.

* * * * *

Reunion

* * * * *

Restrictions

[Revise the first entry to read as follows:]

Banknotes; currency notes; and securities payable to bearer may only be sent in registered First-Class Package International Service shipments.

* * * * *

Rwanda

Prohibitions (130)

[Revise the first entry to read as follows:]

Coins, banknotes, currency notes (paper money), traveler's checks, and securities payable to bearer except in registered First-Class Package International Service shipments.

* * * * *

San Marino

* * * * *

Restrictions

[Revise the entry to read as follows:]

Postage stamps for philatelic purposes are admitted in registered First-Class Package International Service shipments on condition that the package bears a completed PS Form 2976 and the addressee complies with the Italian financial regulations.

* * * * *

Senegal

* * * * *

Observations

[Revise the entry to read as follows:]

First-Class Package International Service items containing dutiable articles must be registered.

* * * * *

Sierra Leone

Prohibitions (130)

[Revise the first entry to read as follows:]

Postage stamps, whether used or not, except in registered First-Class Package International Service shipments.

* * * * *

Restrictions

* * * * *

[Revise the second entry to read as follows:]

Coins or precious metal sent in registered First-Class Package International Service shipments may not exceed L5 in value.

* * * * *

Singapore

Prohibitions (130)

* * * * *

[Revise the fifth entry to read as follows:]

Coins except coins for purposes of ornament; banknotes; currency notes; traveler's checks; securities payable to bearer; precious stones; jewelry; and other valuable articles. However, unmounted precious stones may be sent in registered First-Class Package International Service shipments if authorization is obtained from the Postmaster General of Singapore.

* * * * *

Sint Maarten

Prohibitions (130)

[Revise the first entry to read as follows:]

Coins; banknotes; currency; securities of any kind payable to bearer; traveler's checks; platinum, gold, and silver (manufactured or not); precious stones; jewelry; and other valuable articles, unless they are sent in registered First-Class Package International Service.

* * * * *

Somalia

Prohibitions (130)

* * * * *

[Revise the second entry to read as follows:]

Coins; banknotes; currency; securities of any kind payable to bearer; traveler's checks; platinum, gold, and silver (manufactured or not); precious stones; jewelry; and other valuable articles.

* * * * *

South Africa

Prohibitions (130)

* * * * *

[Revise the fourth entry to read as follows:]

Diamonds or precious stones except in registered First-Class Package International Service shipments.

* * * * *

Observations

* * * * *

[Revise the third entry to read as follows (specifying that only FCPIS with Registered Mail service may be used):]

3. Coins; banknotes; currency notes (paper money); traveler's checks; platinum, gold, and silver (manufactured or not); precious stones; jewelry; and other valuable articles are admitted only in First-Class Package International Service with Registered Mail service shipments.

* * * * *

Sudan

* * * * *

Restrictions

[Revise the entry to read as follows:]

Banknotes greater than 2 Sudanese pounds in value are admitted ONLY in registered First-Class Package International Service shipments.

* * * * *

Taiwan

* * * * *

Observations

[Revise the first entry to read as follows:]

1. First-Class Package International Service items containing dutiable articles must be registered.

* * * * *

Tanzania

* * * * *

Restrictions

[Revise the entry to read as follows:]

Coins must not exceed 100 shillings in value and must be sent in registered First-Class Package International Service shipments.

* * * * *

Togo

Prohibitions (130)

* * * * *

[Revise the third entry to read as follows:]

Banknotes, currency notes, securities payable to bearer, traveler's checks, may only be sent in registered First-Class Package International Service shipments. * * *

* * * * *

Uganda

* * * * *

Restrictions

[Revise the first entry to read as follows:]

Coins; banknotes; currency notes (paper money); securities payable to bearer; traveler checks; platinum, gold or silver, manufactured or not; precious stones, jewelry; and other valuable articles, may only be sent in registered First-Class Package International Service shipments.

* * * * *

Ukraine

* * * * *

Restrictions

[In the first entry, revise item e to read as follows:]

1. In order to be admissible, the food items listed below must* * * (e) be shipped in quantities not to exceed 2 kilograms (4 pounds) when enclosed in a First-Class Package International Service shipment* * *.

* * * * *

Yemen

* * * * *

Restrictions

* * * * *

[Revise the second entry to read as follows:]

Coins, banknotes, currency notes, securities payable to bearer, and traveler's checks may only be sent in registered First-Class Package International Service shipments.

* * * * *

Zambia

* * * * *

Restrictions

[Revise the first entry to read as follows:]

Coins; paper currency; banknotes; currency notes; securities payable to bearer; jewelry; manufactured and unmanufactured platinum, gold, and silver; precious stones; and other valuable articles are admitted only if sent in registered First-Class Package International Service shipments.

* * * * *

New prices will be listed in the updated Notice 123, Price List.

Stanley F. Mires,
Attorney, Federal Requirements.

[FR Doc. 2017-22749 Filed 10-23-17; 8:45 am]

BILLING CODE 7710-12-P